DEPARTMENT OF ENERGY

Federal Energy Regulatory Commission

[Project No. 14463-000]

City of Avenal, California; Notice of Application Accepted for Filing and Soliciting Comments, Motions To Intervene, Protests, Recommendations, and Terms and Conditions

Take notice that the following hydroelectric application has been filed with the Commission and is available for public inspection:

a. Type of Application: Conduit Exemption.

b. Project No.: 14463-000.

c. Date filed: October 22, 2012.

d. Applicant: City of Avenal.

e. Name of Project: Tank 4 In-Conduit Hydroelectric Project.

f. Location: The proposed Tank 4 In-Conduit Hydroelectric Project would be located along the conduit that delivers drinking water to the City of Avenal in Kings County, California. The land on which all the project structures are located is owned by the applicant.

g. Filed Pursuant to: Federal Power Act 16 U.S.C. 791a-825r.

h. Applicant Contact: Mr. Rick Cunningham, Utilities Supervisor, City of Avenal, 919 Skyline Boulevard, Avenal, CA 93204, rcunningham@cityofavenal.com, (559) 386-5766.

i. FERC Contact: Linda Jemison, (202) 502-6363, linda.jemison@ferc.gov.

j. Status of Environmental Analysis: This application is ready for environmental analysis at this time, and the Commission is requesting comments, reply comments, recommendations, terms and conditions, and prescriptions.

k. Deadline for filing responsive documents: Due to the small size of the proposed project, as well as the resource agency consultation letters filed with the application, the 60-day timeframe specified in 18 CFR 4.34(b) for filing all comments, motions to intervene, protests, recommendations, terms and conditions, and prescriptions is shortened to 30 days from the issuance date of this notice. All reply comments filed in response to comments submitted by any resource agency, Indian tribe, or person, must be filed with the Commission within 45 days from the issuance date of this notice.

Comments, protests, and interventions may be filed electronically via the Internet in lieu of paper; see 18 CFR 385.2001(a)(1)(iii) and the instructions on the Commission's Web site at http://www.ferc.gov/docs-filing/efiling.asp. The Commission strongly encourages electronic filings.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

l. Description of Project: The Tank 4 In-Conduit Hydroelectric Project would replace the City of Avenal's water storage Tank 4 with an in-conduit turbine system which would deliver energy while controlling the pressure of treated water entering the City's drink water distribution system. The intake for the water is located adjacent to the San Luis Canal. The water is treated near the intake and is conveyed approximately 6 miles to the project site. The hydroelectric system will capture some of the energy of the gravitational flow within the drinking water system to generate electricity.

m. This filing is available for review and reproduction at the Commission in the Public Reference Room, Room 2A, 888 First Street NE., Washington, DC 20426. The filing may also be viewed on the Web at http://www.ferc.gov/docs-filing/elibrary.asp using the “eLibrary” link. Enter the docket number, here P-14463, in the docket number field to access the document. For assistance, call toll-free 1-866-208-3676 or email FERCOnlineSupport@ferc.gov. For TTY, call (202) 502-8659. A copy is also available for review and reproduction at the address in item h above.

n. Development Application—Any qualified applicant desiring to file a competing application must submit to the Commission, on or before the specified deadline date for the particular application, a competing development application, or a notice of intent to file such an application. Submission of a timely notice of intent allows an interested person to file the competing development application no later than 120 days after the specified deadline date for the particular application. Applications for preliminary permits will not be accepted in response to this notice.

o. Notice of Intent—A notice of intent must specify the exact name, business address, and telephone number of the prospective applicant, and must include an unequivocal statement of intent to submit a competing development application. A notice of intent must be served on the applicant(s) named in this public notice.

p. Protests or Motions To Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

q. All filings must (1) bear in all capital letters the title “PROTEST,” “MOTION TO INTERVENE,” “NOTICE OF INTENT TO FILE COMPETING APPLICATION,” “COMPETING APPLICATION,” “COMMENTS,” “REPLY COMMENTS,” “RECOMMENDATIONS,” “TERMS AND CONDITIONS”, or “PRESCRIPTIONS”; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. Any of these documents must be filed by providing the original and seven copies to: The Secretary, Federal Energy Regulatory Commission, 888 First Street NE., Washington, DC 20426. An additional copy must be sent to Director, Division of Hydropower Administration and Compliance, Office of Energy Projects, Federal Energy Regulatory Commission, at the above address. A copy of any protest or motion to intervene must be served upon each representative of the applicant specified in the particular application. A copy of all other filings in reference to this application must be accompanied by proof of service on all persons listed in the service list prepared by the Commission in this proceeding, in accordance with 18 CFR 4.34(b) and 385.2010.

r. Waiver of Pre-filing Consultation: On June 5, 2012, the applicant informed agencies, affected Indian Tribes, and adjacent property owners of its request to waive the Commission's consultation requirements under 18 CFR 4.38(c). Only the National Marine Fisheries Service representative responded, by telephone call on July 6, 2012), explaining that “the NMFS would not respond in writing and had no comments on this Project at that time.” No other comments were received. Therefore, the Commission intends to accept the consultation that has occurred on this project during the pre-filing period and to waive pre-filing consultation under section 4.38(c), which requires, among other things, conducting studies requested by resource agencies, and distributing and consulting on a draft exemption application.

Dated: December 18, 2012.
Kimberly D. Bose,
Secretary.

[FR Doc. 2012-30910 Filed 12-21-12; 8:45 am]

BILLING CODE 6717-01-P